DEPARTMENT OF LABOR

Employment and Training Administration

[TA-W-51,048]

Kayser-Roth Corporation, Creedmoor Facility, Creedmoor, NC; Notice of Negative Determination Regarding Application for Reconsideration

By application of April 16, 2003, employees requested administrative reconsideration of the Department's negative determination regarding eligibility for workers and former workers of the subject firm to apply for Trade Adjustment Assistance (TAA). The denial notice applicable to workers of Kayser-Roth Corporation, Creedmoor Facility, Creedmoor, North Carolina was signed on March 19, 2003, and published in the Federal Register on April 7, 2003 (68 FR 16834).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Kayser-Roth Corporation, Creedmoor Facility, Creedmoor, North Carolina engaged in activities related to the distribution services of “No Nonsense” leg-wear. The petition was denied because the petitioning workers did not produce an article within the meaning of Section 222(3) of the Act.

The workers allege that layoffs at Kayser-Roth Corporation, Creedmoor Facility, Creedmoor, North Carolina, were directly “due to free trade” and supply supplemental information to confirm this.

The worker allegations of trade impact would only be relevant if all other eligibility requirements for trade adjustment assistance were met in this case. However, distribution services do not meet the definition of production of an article as established in Section 222 of the Trade Act, thus the workers in this case do not meet the eligibility requirements of TAA.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 3rd day of June, 2003.
Elliott S. Kushner,
Certifying Officer, Division of Trade Adjustment Assistance

[FR Doc. 03-15476 Filed 6-18-03; 8:45 am]

BILLING CODE 4510-30-P